FEDERAL ELECTION COMMISSION

Sunshine Act Notices

AGENCY: Federal Election Commission.

Date & Time: Tuesday, August 24, 2010, at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, August 26, 2010, at 10 a.m.

Place: 999 E Street, NW., Washington, DC (Ninth Floor)

Status: This meeting will be open to the public.

Items To Be Discussed: Correction and Approval of Minutes.

Draft Advisory Opinion 2010-14: Democratic Senatorial Campaign Committee by its counsel, Marc E. Elias, Esq., and Jonathan S. Berkon, Esq., of Perkins Coie, LLP.

Draft Advisory Opinion 2010-15: Pike for Congress by its counsel, Brian G. Svoboda, Esq., and Jonathan S. Berkon, Esq., of Perkins Coie, LLP.

Explanation and Justification and Final Rules on Coordinated Communications.

Explanation and Justification and Final Rules on Federal Election Activity.

Management and Administrative Matters.

Individuals who plan to attend and require special assistance, such as sign language interpretation or other reasonable accommodations, should contact Shawn Woodhead Werth, Commission Secretary and Clerk, at (202) 694-1040, at least 72 hours prior to the hearing date.

Person to Contact for Information: Judith Ingram, Press Officer Telephone: (202) 694-1220.

Shawn Woodhead Werth,
Secretary and Clerk of the Commission.

[FR Doc. 2010-21408 Filed 8-27-10; 8:45 am]

BILLING CODE 6715-01-M